DEPARTMENT OF COMMERCE

International Trade Administration

[A-533-823]

Silicomanganese From India: Final Results and Partial Rescission of Antidumping Duty Administrative Review; 2022-2023

AGENCY: Enforcement and Compliance, International Trade Administration, Department of Commerce.

SUMMARY: The U.S. Department of Commerce (Commerce) finds that Maithan Alloys Limited (MAL) made sales of subject merchandise at less than normal value during the period of review (POR) May 1, 2022, through April 30, 2023. Additionally, we are rescinding the review with respect to Rajadhiraj Tirupani Vinayak Natraj Pvt. Ltd. (RTVN), because we find that it had no shipments of subject merchandise during the POR.

DATES: Applicable December 30, 2024.

FOR FURTHER INFORMATION CONTACT: Sarah Keith, AD/CVD Operations, Office VII, Enforcement and Compliance, International Trade Administration, U.S. Department of Commerce, 1401 Constitution Avenue NW, Washington, DC 20230; telephone: (202) 482-0264.

SUPPLEMENTARY INFORMATION:

Background

On June 11, 2024, Commerce published the preliminary results of the 2022-2023 administrative review of the antidumping duty order on silicomanganese from India.¹ We invited interested parties to comment on the Preliminary Results.² No interested parties submitted comments; thus, no decision memoranda accompany this notice. The Preliminary Results are hereby adopted as the final results of this review. Commerce conducted this review in accordance with section 751(a) of the Tariff Act of 1930, as amended (the Act). On October 16, 2024, in accordance with section 751(a)(3)(A) of the Act, Commerce extended the deadline for the final results of this review by 60 days, until December 16, 2024.³ On December 9, 2024, Commerce tolled the deadlines to issue the preliminary or final results in all ongoing administrative reviews by 90 days.⁴ Accordingly, the deadline for Commerce to issue the final results in this administrative review is now March 17, 2025.

¹ See Silicomanganese from India: Preliminary Results, Preliminary Results of Antidumping Duty Administrative Review and Intent to Rescind, in Part; 2022-2023, 89 FR 49152 (June 11, 2024) (Preliminary Results), and accompanying Preliminary Decision Memorandum (PDM).

² See Preliminary Results, 89 FR at 49153.

³ See Memorandum, “Extension of Deadline for Final Results of Countervailing [sic] Duty Administrative Review,” dated October 16, 2024. The memorandum title should read, “Extension of Deadline for Final Results of Antidumping Duty Administrative Review.”

⁴ See Memorandum, “Tolling of Deadlines for Antidumping and Countervailing Duty Proceedings,” dated December 9, 2024.

Scope of the Order ⁵

⁵ See Notice of Amended Final Determination of Sales at Less than Fair Value and Antidumping Duty Orders: Silicomanganese from India, Kazakhstan, and Venezuela, 67 FR 36149 (May 23, 2002) (Order).

The merchandise covered by the scope of the Order is silicomanganese from India. A full description of the scope of the Order is provided in the Preliminary Results.⁶

⁶ See Preliminary Results PDM at 2.

Recission of Administrative Review, in Part

In the Preliminary Results, we stated that we intended to rescind this review with respect to RTVN, which we preliminarily found had no shipments of subject merchandise during the POR, pursuant to 19 CFR 351.213(d)(3).⁷ No party filed comments with respect to our preliminary finding and intent to rescind the review. Therefore, we are rescinding the administrative review with respect to RTVN.

⁷ Id at 3.

Final Results of the Review

We determine the following estimated weighted-average dumping margin for the period May 1, 2022, through April 30, 2023.

Exporter/producer | Weight- average dumping margin (percent)
Maithan Alloys Limited | 1.71

Disclosure

Because Commerce received no comments on the Preliminary Results, we have not modified our analysis. Consequently, there are no calculations to disclose in accordance with 19 CFR 351.224(b) for these final results.

Assessment Rates

Pursuant to section 751(a)(2)(C) of the Act and 19 CFR 351.212(b)(1), Commerce will determine, and U.S. Customs and Border Protection (CBP) shall assess, antidumping duties on all appropriate entries of subject merchandise in accordance with the final results of this review. If the weighted-average dumping margin is not zero or de minimis (i.e., less than 0.50 percent), upon completion of the final results, Commerce intends to calculate importer-specific assessment rates on the basis of the ratio of the total amount of dumping calculated for each importer's examined sales to the total entered value of those sales. Where we do not have entered values for all U.S. sales to a particular importer, we will calculate an importer-specific, per-unit assessment rate on the basis of the ratio of the total amount of dumping calculated for the importer's examined sales to the total quantity of those sales.⁸ To determine whether an importer-specific, per-unit assessment rate is de minimis, in accordance with 19 CFR 351.106(c)(2), we also will calculate an importer-specific ad valorem ratio based on estimated entered values. Where the weighted-average dumping margin is zero or de minimis, or an importer-specific ad valorem assessment rate is zero or de minimis, we will instruct CBP to liquidate appropriate entries without regard to antidumping duties.⁹

⁸ See 19 CFR 351.212(b)(1).

⁹ See 19 CFR 352.106(c)(2); see also Antidumping Proceeding: Calculation of the Weighted-Average Dumping Margin and Assessment Rate in Certain Antidumping Proceedings; Final Modification, 77 FR 8101, 8103 (February 14, 2012).

For entries of subject merchandise during the POR produced by MAL for which it did not know that the merchandise it sold to the intermediary (e.g., reseller, trading company, or exporter) was destined for the United States, we will instruct CBP to liquidate such entries at the all-others rate if there is no rate for the intermediate company(ies) involved in the transaction.¹⁰

¹⁰ For a full discussion of this practice, see Antidumping and Countervailing Duty Proceedings: Assessment of Antidumping Duties, 68 FR 23954 (May 6, 2003).

For the company for which we are rescinding this review, we will instruct CBP to assess antidumping duties on all appropriate entries at a rate equal to the cash deposit of estimated antidumping duties required at the time of entry, or withdrawal from warehouse, in accordance with 19 CFR 351.212(c)(l)(i). Commerce intends to issue these rescission instructions to CBP no earlier than 35 days after the publication of this notice in the Federal Register.

Commerce intends to issue assessment instructions to CBP no earlier than 35 days after the date of publication of these final results in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the date of publication of the final results of this administrative review, as provided for by section 751(a)(2)(C) of the Act: (1) the cash deposit rate for the companies under review will equal to the dumping margin established in the final results of this review for each respondent (except, if that rate is de minimis, then the cash deposit rate will be zero); (2) for producers or exporters not covered in this review but covered in a prior segment of the proceeding, the cash deposit rate will continue to be the company-specific rate published for the most recently-completed segment of this proceeding in which they were reviewed; (3) if the exporter is not a firm covered in this review or a prior segment of the proceeding but the producer is, then the cash deposit rate will be the rate established for the most recently completed segment of this proceeding for the producer of the merchandise; and (4) the cash deposit rate for all other producers or exporters will continue to be 17.74 percent, the all-others rate established in the less-than-fair-value investigation.¹¹ These cash deposit requirements, when imposed, shall remain in effect until further notice.

¹¹ See Order.

Notification to Importers

This notice also serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Administrative Protective Order (APO)

This notice also serves as a reminder to parties subject to an APO of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Notification to Interested Parties

Commerce is issuing and publishing the final results of this review in accordance with sections 751(a)(1) and 777(i)(1) of the Act, and 19 CFR 351.221(b)(5).

Dated: December 18, 2024.
Abdelali Elouaradia,
Deputy Assistant Secretary for Enforcement and Compliance.

[FR Doc. 2024-30929 Filed 12-27-24; 8:45 am]

BILLING CODE 3510-DS-P